POSTAL SERVICE

39 CFR Part 111

Change Address Quality Threshold for Intelligent Mail Package Barcode

AGENCY: Postal Service™.

ACTION: Interim final rule with request for comments.

SUMMARY: The Postal Service is revising Mailing Standards of the United States Postal Service, Domestic Mail Manual (DMM®) section 204.2.1.8 to update the Address Quality (AQ) Compliance threshold for all mailers who enter commercial parcels.

DATES: Effective date: January 31, 2019.

Comment deadline: Comments must be received on or before December 31, 2018.

ADDRESSES: Mail or deliver written comments to the manager, Product Classification, U.S. Postal Service®, 475 L'Enfant Plaza SW, Room 4446, Washington, DC 20260-5015. If sending comments by email, include the name and address of the commenter and send to ProductClassification@usps.gov, with a subject line of “Change Address Quality-IMpb.” Faxed comments are not accepted. You may inspect and photocopy all written comments, by appointment only, at USPS® Headquarters Library, 475 L'Enfant Plaza SW, 11th Floor North, Washington, DC, 20260. These records are available for review on Monday through Friday, 9 a.m.-4 p.m., by calling 202-268-2906.

FOR FURTHER INFORMATION CONTACT: Malaki Gravely at (202) 268-7553 or Malaki.l.gravely@usps.gov.

SUPPLEMENTARY INFORMATION: The Postal Service will increase the IMpb® Address Quality (AQ) threshold from 89 percent to 90 percent. The effective date of the new IMpb Address Quality threshold will coincide with the effective date for the previously determined threshold increases for Manifest Quality (MQ) and Barcode Quality (BQ).

Background

On February 27, 2018, the Postal Service published a proposed rule, Federal Register Notice (83 FR 8399) Proposed Changes to Validations for IMpb to announce its proposal to add new IMpb compliance validations for Barcode Quality (BQ), Address Quality (AQ), and (Shipping Services File) Manifest Quality (MQ) metrics. The proposed rule also reflected IMpb threshold increases for Barcode Quality and (Shipping Services File) Manifest Quality. In addition, the Postal Service provided notice to work in partnership with the mailing industry to determine the percentage increase for Address Quality threshold.

On September 21, 2018, the Postal Service published a final rule, Federal Register Notice (83 FR 47839) Changes to Validations for IMpb to amend mailing standards, to add new IMpb compliance quality validations and thresholds for Address Quality, Barcode Quality, and (Shipping Services File) Manifest Quality.

Additional time was needed to discuss the validation requirements for Address Quality before increasing the AQ threshold. The Postal Service and mailing industry have agreed on 90% as the new AQ threshold. The new AQ threshold is effective January 31, 2019, and the assessment of the IMpb Noncompliance Fee pursuant to this new AQ threshold will begin on February 1, 2019. Additionally, the Address Quality (AQ) validation “valid primary street number” will be removed from the measurement.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows:

PART 111—[AMENDED]

1. The authority citation for part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

200 Commercial Mail

* * * * *

204 Barcode Standards

* * * * *

2.0 Standards for Package and Extra Service Barcodes

2.1 Intelligent Mail Package Barcode

* * * * *

2.1.8 Compliance Quality Thresholds

[Add a new second sentence and revise the last sentence in 2.1.8 to read as follows:]

* * * Failure to meet any compliance quality threshold in Exhibit 2.1.8 will result in the assessment of the IMpb Noncompliance Fee. For details, see Publication 199: Intelligent Mail Package Barcode (IMpb) Implementation Guide for: Confirmation Services and Electronic Verification System (eVS) Mailers, available on PostalPro at http://postalpro.usps.com.

EXHIBIT 2.1.8—IMPB COMPLIANCE QUALITY THRESHOLDS

[Revise the “Compliance Threshold” for the “Address Quality” line item to read “90”; and “Validations” for the “Address Quality” to remove “valid primary street number line.]

* * * * *

We will publish an appropriate amendment to 39 CFR part 111 to reflect these changes.

Brittany M. Johnson,
Attorney, Federal Compliance.

[FR Doc. 2018-26665 Filed 12-10-18; 8:45 am]

BILLING CODE 7710-12-P